DEPARTMENT OF COMMERCE

National Oceanic and Atmospheric Administration

Proposed Information Collection; Comment Request; Economic Surveys for U.S. Commercial Fisheries

AGENCY: National Oceanic and Atmospheric Administration (NOAA), DOC.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 17, 2006.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Rita Curtis, 301-713-2328 or rita.curtis@noaa.gov.

SUPPLEMENTARY INFORMATION:

I. Abstract

The economic data for selected U.S. commercial fisheries will be collected for each of the following groups of operations: (1) Processors, including onshore plants, floating processing plants, mothership vessels, and catcher/processor vessels; (2) catcher vessels; and (3) for-hire vessels. Companies associated with these groups will be surveyed for expenditure, earnings, effort, ownership, and employment data; and basic demographic data on fishing and processing crews. In general, questions will be asked concerning ex-vessel and wholesale prices and revenue, variable and fixed costs, expenditures, effort, ownership, dependence on the fisheries, and fishery employment. The data collection efforts will be coordinated to reduce the additional burden for those who participate in multiple fisheries. Participation in these data collections will be voluntary.

The data will be used for the following purposes: (1) To monitor the economic performance of these fisheries through primary processing; (2) to analyze the economic performance effects of current management measures; and (3) to analyze the economic performance effects of alternative management measures.

The measures of economic performance to be supported by this data collection program include the following: (1)Contirbution to net national benefit; (2) contribution to income of groups of participants in the fisheries (i.e., fishermen, vessel owners, processing plant employees, and processing plant owners); (3) employment; (4) regional economic impacts (income and employment); and (5) factor utilizations rates. As required by law, the confidentiality of the data will be protected.

Data collections will focus each year on a different component of the U.S. commercial fisheries, with only limited data collected in previously surveyed components of these fisheries. The latter will be done to update the models that will be used to track economic performance and to evaluate the economic effects of alternative management actions. This cycle of data collection will facilitate economic performance data being available and updated for all the components of the U.S. commercial fisheries identified above.

II. Method of Collection

Data will be collected via mailed questionnaires, and telephone and in-person interviews.

III. Data

OMB Number: 0648-0369.

Form Number: None.

Type of Review: Regular submission.

Affected Public: Business or other for-profits organizations.

Estimated Number of Respondents: 7,000.

Estimated Time Per Response: 1 hour and 30 minutes for a response from a catcher vessel or for-hire vessel for operating cost, annual cost, revenue, effort, employment, ownership, and limited demographic data; 25 minutes per response from a catcher vessel or for-hire vessel for operating cost data; 1 hour per response from a catcher vessel or for-hire vessel for annual expenditure and demographic data; 8 hours for a response from a West Coast or Alaska processor, including catcher/processor vessels, mothership vessels, floating processing plants, and onshore plants; 1 hour and 30 minutes for a response from an East Coast or Gulf processor.

Estimated Total Annual Burden Hours: 7,000.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 13, 2005.
Gwellnar Banks,
Management Analyst, Office of the Chief Information Officer.

[FR Doc. E5-7474 Filed 12-16-05; 8:45 am]

BILLING CODE 3510-22-P